DEPARTMENT OF THE INTERIOR

Bureau of Land Management

[LLWY-957400-09-L14200000-BJ0000]

Notice of Stays of Filing of Plats of Survey, Wyoming and Nebraska

AGENCY: Bureau of Land Management, Interior.

ACTION: Notice of Stays of Filing of Plats of Survey, Wyoming and Nebraska

SUMMARY: The Bureau of Land Management (BLM) has placed stays on the filing of plats of survey of the following described lands, pending consideration of the protest and/or appeal that was filed within 30 calendar days of publication in this Federal Register. A plat will not be officially filed until after disposition of protest and/or appeal.

FOR FURTHER INFORMATION CONTACT: Bureau of Land Management, 5353 Yellowstone Road, P.O. Box 1828, Cheyenne, Wyoming 82003.

SUPPLEMENTARY INFORMATION: This survey was executed at the request of the Bureau of Land Management and is necessary for the management of these lands. The lands surveyed are:

The plat and field notes representing the dependent resurvey of a portion of the south boundary and subdivisional lines, and the subdivision of section 33, Township 34 North, Range 110 West, of the Sixth Principal Meridian, Wyoming, Group No. 726, was accepted July 9, 2009.

This survey was executed at the request of the National Park Service and is necessary for the management of these lands. The lands surveyed are:

The plat representing the entire record of the survey of Tract No. 37, Township 32 North, Range 3 East, of the Sixth Principal Meridian, Nebraska, Group No. 147, was accepted March 6, 2009.

Copies of the preceding described plats and field notes are available to the public at a cost of $1.10 per page.

Dated: August 24, 2009.
John P. Lee,
Chief Cadastral Surveyor, Division of Support Services.

[FR Doc. E9-20822 Filed 8-27-09; 8:45 am]

BILLING CODE 4310-22-P